DEPARTMENT OF HEALTH AND HUMAN SERVICES

Centers for Disease Control and Prevention

[30Day-15-0932]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Data Collection for Evaluation of Education, Communication, and Training Activities (OMB No. 0920-0932, expires 05/31/2015)—Revision—National Center for Emerging and Zoonotic Infectious Diseases (NCEZID), Centers for Disease Control and Prevention (CDC).

Background and Brief Description

The Centers for Disease Control and Prevention (CDC) Division of Global Migration and Quarantine (DGMQ) is requesting a revision of a currently approved generic clearance to conduct evaluation research. This will help CDC plan and implement health communication, education, and training activities to improve health and prevent the spread of disease. These activities include communicating with international travelers and other mobile populations, training healthcare providers, and educating public health departments and other federal partners.

The information collection for which the revision is sought is in accordance with DGMQ's mission to reduce morbidity and mortality among immigrants, refugees, travelers, expatriates, and other globally mobile populations, and to prevent the introduction, transmission, or spread of communicable diseases from foreign countries into the United States. This mission is supported by delegated legal authorities outlined in the Public Health Service (PHS) Act (42 U.S.C. 264) and in regulations that are codified in 42 Code of Federal Regulations (CFR) parts 70 and 71, and 34.

Since receiving initial approval for this generic, CDC has conducted five information collections. These information collections supported an Evaluation of Adapted Health Education Materials for LEP Spanish Speakers and Indigenous Migrants; Evaluation of the TravAlert Electronic Messaging System; a project entitled Scan This: Effectiveness of Quick Response Codes for Engaging International Panel Physicians; and two collections involving CDC's Check and Report Ebola programs (CARE and CARE+) (The CARE+ evaluation is still underway as of the date of this notice). In order, these projects evaluated materials designed for specific audiences to determine if CDC's methods for communicating key public health messages were translated appropriately for low-English proficiency residents in the United States, were effective in reaching travelers in airports, were useful in making CDC's immigration medical exam technical instructions more accessible, and were helpful in reaching individuals and assessing their knowledge, attitudes, beliefs, and behaviors concerning enhanced screening for Ebola at U.S. ports of entry and follow-up under active monitoring.

Approval of this revision of the generic information collection will allow DGMQ to continue to collect, in an expedited manner, information about the knowledge, attitudes, and behaviors of key audiences (such as refugees, immigrants, migrants, international travelers, travel industry partners, healthcare providers, non-profit agencies, customs brokers and forwarders, schools, state and local health departments) to help improve and inform these activities during both routine and emergency public health events. This generic OMB clearance will help DGMQ continue to refine these efforts in a timely manner, and will be especially valuable for communication activities that must occur quickly in response to public health emergencies.

DGMQ staff will use a variety of data collection methods for this proposed project: Interviews, focus groups, surveys, and pre/post-tests. Depending on the research questions and audiences involved, data may be gathered in-person, by telephone, online, or using some combination of these formats. Data may be collected in quantitative and/or qualitative forms. Numerous audience variables will be assessed under the auspices of this generic OMB clearance. These include, but are not limited to, knowledge, attitudes, beliefs, behavioral intentions, practices, behaviors, skills, self-efficacy, and information needs and sources. Insights gained from evaluation research will assist in the development, refinement, implementation, and demonstration of outcomes and impact of communication, education, and training activities.

DGMQ estimates involvement of 37,500 respondents and 17,835 hours of burden for evaluation research activities each year. The collected information will not impose a cost burden on the respondents beyond that associated with their time to provide the required data.

Estimated Annualized Burden Hours
Type of respondents | Form name | Number of respondents | Number of responses per respondent | Average burden per response (in hours)
General Public | Focus Groups Screening form | 2,100 | 1 | 10/60
Healthcare Professionals | Focus Groups Screening form | 900 | 1 | 10/60
General Public | Focus Group Guide | 1,050 | 1 | 1.5
Healthcare Professionals | Focus Group Guide | 450 | 1 | 1.5
General Public | Interview Screening Form | 1,400 | 1 | 10/60
Healthcare Professionals | Interview Screening Form | 600 | 1 | 10/60
General Public | Interview Guide | 700 | 1 | 1
Healthcare Professionals Interviews | Interview Guide | 300 | 1 | 1
General Public | Survey Screening Forms | 10,500 | 1 | 10/60
Healthcare Professionals | Survey Screening Forms | 4,500 | 1 | 10/60
General Public | Surveys | 5,250 | 1 | 45/60
Healthcare Professionals | Surveys | 2,250 | 1 | 45/60
General Public | Pre/Post Tests | 5,250 | 1 | 45/60
Healthcare Professionals | Pre/Post Tests | 2,250 | 1 | 45/60

Leroy A. Richardson,
Chief, Information Collection Review Office, Office of Scientific Integrity, Office of the Associate Director for Science, Office of the Director, Centers for Disease Control and Prevention.

[FR Doc. 2015-05902 Filed 3-13-15; 8:45 am]

BILLING CODE 4163-18-P